DEPARTMENT OF JUSTICE

Notice of Lodging of Consent Decree Pursuant to Section 107 of the Comprehensive Environmental Response, Compensation, and Liability Act

Notice is hereby given that on January 14, 2011, a Consent Decree was lodged in United States and the State of Kansas v. Blue Tee Corp., Civ. A. No. 5:11-civ-04004. The Consent Decree settles claims asserted by the United States and the State of Kansas (“the Trustees”) for natural resource damages under Section 107 of the Comprehensive Environmental Response, Compensation, and Liability Act (“CERCLA”), 42 U.S.C. 9607, against Blue Tee Corp. (“Blue Tee”). The claims arise from the releases of smelting wastes containing heavy metals, specifically cadmium, lead and arsenic, from three smelters owned and operated by a predecessor in interest of the Blue Tee in Dearing, Caney and Neodesha, Kansas.

Under the Consent Decree, Blue Tee will arrange for the purchase of a specified 80 acre parcel of property with natural resources equivalent to those injured, lost and destroyed by the releases of hazardous substances at the smelters. That property will be transferred to The Nature Conservancy, a non profit entity that will maintain the property and preserve it in perpetuity. Blue Tee will also pay to the Trustees a total of $180,298.27 to reimburse the Trustees for past assessment costs, and future restoration planning costs and operation and maintenance costs for the property.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and State of Kansas v. Blue Tee Corp., (D. Kan.) and DOJ Case No. 90-11-2-06280/4.

During the public comment period, the Consent Decree may be examined at the Office of the United States Attorney, District of Kansas, 500 State Ave. Suite 360, Kansas City, KS 66101, (913) 551-6730. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.75 (25 cents per page reproduction cost) payable to the U.S. Treasury.

Maureen Katz,
Assistant Section Chief.

[FR Doc. 2011-1213 Filed 1-20-11; 8:45 am]

BILLING CODE 4410-15-P